DEPARTMENT OF ENERGY

Federal Energy Regulatory Commission

[Docket No. PF06-20-000]

TransColorado Gas Transmission Company; Notice of Intent to Prepare an Environmental Impact Statement for the Proposed Blanco to Meeker Project and Request for Comments on Environmental Issues

April 3, 2006.

The staff of the Federal Energy Regulatory Commission (FERC or Commission) will prepare an environmental impact statement (EIS) that discusses the environmental impacts of the proposed Blanco to Meeker Project (the Project). This project involves the construction and operation of facilities by TransColorado Gas Transmission Company (TransColorado) in San Juan County, New Mexico and Zuma, Montrose, Mesa, Garfield, and Rio Blanco Counties, Colorado. These facilities would include two new compressor stations, modifications at four existing compressor stations, and installation of approximately 1,000 feet of 24-inch-diameter natural gas pipeline.

The Blanco to Meeker Project is a necessary and supporting component of the overall Rockies Express Pipeline Project, Western Phase, currently under review in the Commission's Pre-Filing Process in Docket No. PF06-3-000. Therefore, the environmental analysis for the Blanco to Meeker Project will be incorporated into the EIS being prepared for the Rockies Express Pipeline Project. The EIS will be used by the Commission in its decision-making process to determine whether the proposed facilities are in the public convenience and necessity.

This notice explains the scoping process that will be used to gather input from the public and interested agencies on the Project. Your input will help FERC staff determine which issues/impacts associated with the Project need to be evaluated in the EIS. Please note that the scoping period for the Project will close on May 5, 2006. Instructions on how to submit written comments are provided in the public participation section of this notice.

The Blanco to Meeker Project is currently in the preliminary stages of design, and at this time a formal application has not been filed with the Commission. For this proposal, the Commission is initiating the National Environmental Policy Act (NEPA) review prior to receiving the application. This allows interested stakeholders to become involved early in Project planning and to identify and resolve issues before an application is filed with the FERC. A docket number (PF06-20-000) has been established to place information filed by TransColorado and related documents issued by the Commission into the public record ¹. Once a formal application is filed with the FERC, a new docket number will be established.

¹ To view information in the docket, follow the instructions for using the eLibrary link at the end of this notice.

The Bureau of Land Management (BLM) and U.S. Forest Service (Forest Service) are participating as cooperating agencies in the preparation of the EIS because certain Project facilities would be located on Forest Service and other Federal lands. The EIS will be used by the BLM and the Forest Service to meet their NEPA responsibilities in considering TransColorado's application.

With this notice, we ² are asking other Federal, State, and local agencies with jurisdiction and/or special expertise with respect to environmental issues in the Project area to formally cooperate with us in the preparation of the EIS. These agencies may choose to participate once they have evaluated the proposal relative to their responsibilities. Agencies that would like to request cooperating status should follow the instructions for filing comments described later in this notice. We encourage government representatives to notify their constituents of this planned Project and encourage them to comment on their areas of concern.

² “We,” “us,” and “our” refer to the envioronmental staff of the Office of Energy Products.

This notice is being sent to landowners within 0.5 mile of the proposed compressor stations and compressor station upgrades; Federal, State, and local government agencies; elected officials; environmental and public interest groups; Native American tribes; local libraries and newspapers; and other interested parties.

Some affected landowners may be contacted by a Project representative about the acquisition of an easement to construct, operate, and maintain the proposed facilities. If so, TransColorado and the affected landowners should seek to negotiate a mutually acceptable agreement. In the event that the Project is certificated by the Commission, that approval conveys the right of eminent domain for securing easements for the facilities. Therefore, if easement negotiations fail to produce an agreement, TransColorado could initiate condemnation proceedings in accordance with applicable state law.

A fact sheet prepared by the FERC entitled “An Interstate Natural Gas Facility On My Land? What Do I Need To Know?” addresses a number of typically asked questions, including the use of eminent domain and how to participate in the Commission's proceedings. It is available for viewing on the FERC Internet Web site (http://www.ferc.gov).

Summary of the Proposed Project

TransColorado proposes to construct and operate the following facilities as part of its proposed Blanco to Meeker Project:

• Construct a new compressor station at the Blanco Hub Area, San Juan County, New Mexico, with a site-rated total of 4,200 horsepower (hp).

• Install two bi-directional meters at existing connections to El Paso and Transwestern and approximately 1,000 feet of 24-inch diameter pipe to tie into the existing Conoco Gas Plant at the Blanco Hub Area.

• Construct a new compressor station at Conn Creek, Garfield County, Colorado, with a site-rated total of 5,900 hp. This compressor station will also require two electric generator sets of approximately 500 hp each.

• Install one new compressor unit at the existing Greasewood Compressor Station in Rio Blanco County, Colorado. The new compressor unit will have a site-rated total of 2,805 hp.

• Reconfigure the existing Mancos, Redvale, and Whitewater Compressor Stations (all in Colorado) by modifying header and piping facilities within the existing stations' fencelines.

A map depicting the general location of the Project facilities is shown in Appendix 1.³

³ The appendices referenced in this notice are not being printed in Federal Register. Copies are available from the Commission's Public Reference and Files Maintenance Branch, at (202) 502-8371. For instructions on connecting to eLibrary refer to the last page of this Notice.

TransColorado is requesting approval such that the facilities are completed and placed into service by January, 2008. Construction of the facilities would take about 10 months.

The EIS Process

NEPA requires the Commission to take into account the environmental impacts that could result from an action whenever it considers the issuance of a Certificate of Public Convenience and Necessity under section 7 of the Natural Gas Act. NEPA also requires us to identify and address concerns the public would have about proposals. This process is referred to as “scoping.” The main goal of the scoping process is to focus the analysis in the EIS on important environmental issues and reasonable alternatives. By this Notice of Intent, the Commission staff requests agency and public comments on the scope of the issues to be addressed in the EIS. All comments received are considered during the preparation of the EIS.

Our independent analysis of the issues will be included in the draft EIS. The draft EIS will be published and mailed to Federal, State, and local agencies, Native American tribes, public interest groups, interested individuals, affected landowners, newspapers, libraries, and the Commission's official service list for this proceeding. A comment period will be allotted for review of the draft EIS. We will consider all timely comments on the draft EIS and revise the document, as necessary, before issuing a final EIS.

To ensure your comments are considered, please carefully follow the instructions in the public participation section below.

Currently Identified Environmental Issues

We have identified the following issues that we think deserve attention based on a preliminary review of the proposed facilities and the information provided by TransColorado. This preliminary list of issues may be changed based on your comments and our analysis.

• Land Use, Recreation and Special Interest Areas, and Visual Resources:

—Impact on public lands.

• Air Quality and Noise:

—Effects on local air quality and ambient noise from construction and operation of the proposed facilities.

We will make recommendations on how to lessen or avoid impacts on these and other resource areas and evaluate possible alternatives to the proposed Project or portions of the Project.

Public Participation

You are encouraged to become involved in this process and provide your specific comments or concerns about TransColorado's proposal. Your comments should focus on the potential environmental effects, reasonable alternatives, and measures to avoid or lessen environmental impacts. The more specific your comments, the more useful they will be. To expedite the receipt and consideration of your comments, electronic submission of comments is strongly encouraged. See Title 18 CFR 385.2001(a)(1)(iii) and the instructions on the FERC Internet Web site (http://www.ferc.gov) under the eFiling link and the link to the User's Guide. Before you can submit comments you will need to create a free account by clicking on “Sign-up” under “New User.” You will be asked to select the type of submission you are making. This type of submission is considered a “Comment on Filing.” Comments submitted electronically must be submitted by May 5, 2006.

If you wish to mail comments, please carefully follow these instructions:

• Send an original and two copies of your letter to: Magalie R. Salas, Secretary, Federal Energy Regulatory Commission, 888 First St. NE.; Room 1A, Washington, DC 20426.

• Label one copy of the comments for the attention of Gas Branch 1.

• Reference Docket No. PF06-20-000 on the original and both copies.

• Mail your comments so that they will be received in Washington, DC on or before May 5, 2006.

Environmental Mailing List

If you received this notice, you are on the environmental mailing list for this Project and will continue to receive Project updates including the draft and final EISs. If you want your contact information corrected or you do not want to remain on our mailing list, please return the Correct or Remove From Mailing List Form included as Appendix 2.

To reduce printing and mailing costs the draft and final EISs will be issued in both CD-ROM and hard copy formats. The FERC strongly encourages the use of the CD-ROM format in its publication of large documents. If you wish to receive a paper copy of the draft EIS instead of a CD-ROM, you must indicate that choice on the return postcard (Appendix 2).

Additional Information

Additional information about the Project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Magalie R. Salas,
Secretary.

[FR Doc. E6-5290 Filed 4-10-06; 8:45 am]

BILLING CODE 6717-01-P